INTERNATIONAL TRADE COMMISSION

[Investigation No. 337-TA-895]

Certain Multiple Mode Outdoor Grills and Parts Thererof; Institution of Investigation

AGENCY: U.S. International Trade Commission.

ACTION: Notice.

SUMMARY: Notice is hereby given that a complaint was filed with the U.S. International Trade Commission on August 21, 2013, under section 337 of the Tariff Act of 1930, as amended, 19 U.S.C. 1337, on behalf of A&J Manufacturing, LLC of St. Simons, Georgia and A&J Manufacturing, Inc. of Green Cove Springs, Florida. The complaint alleges violations of section 337 based upon the importation into the United States, the sale for importation, and the sale within the United States after importation of certain multiple mode outdoor grills and parts thereof by reason of infringement of certain claims of U.S. Patent No. 8,381,712 (“the '712 patent”), U.S. Patent No. D660,646 (“the 'D646 patent”), and U.S. Patent No. D662,773 (“the 'D773 patent”), and that an industry in the United States exists as required by subsection (a)(2) of section 337.

The complainants request that the Commission institute an investigation and, after the investigation, issue a general exclusion order and cease and desist orders.

ADDRESSES: The complaint, except for any confidential information contained therein, is available for inspection during official business hours (8:45 a.m. to 5:15 p.m.) in the Office of the Secretary, U.S. International Trade Commission, 500 E Street SW., Room 112, Washington, DC 20436, telephone (202) 205-2000. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at http://www.usitc.gov. The public record for this investigation may be viewed on the Commission's electronic docket (EDIS) at http://edis.usitc.gov.

FOR FURTHER INFORMATION CONTACT: The Office of Unfair Import Investigations, U.S. International Trade Commission, telephone (202) 205-2560.

Authority: The authority for institution of this investigation is contained in section 337 of the Tariff Act of 1930, as amended, and in section 210.10 of the Commission's Rules of Practice and Procedure, 19 CFR 210.10 (2013).

Scope of Investigation: Having considered the complaint, the U.S. International Trade Commission, on September 20, 2013, ordered that—

(1) Pursuant to subsection (b) of section 337 of the Tariff Act of 1930, as amended, an investigation be instituted to determine whether there is a violation of subsection (a)(1)(B) of section 337 in the importation into the United States, the sale for importation, or the sale within the United States after importation of certain multiple mode outdoor grills and parts thereof that infringe one or more of claims 1-20 of the '712 patent, the claim of the 'D646 patent, and the claim of the 'D773 patent, and whether an industry in the United States exists as required by subsection (a)(2) of section 337;

(2) For the purposes of the investigation so instituted, the following are hereby named as parties upon which this notice of investigation shall be served:

(a) The complainants are:

A&J Manufacturing, LLC, 2465 Demere Road, St. Simons, GA 31522

A&J Manufacturing, Inc., 903 Lake Asbury Drive, Green Cove Springs, FL 32043

(b) The respondents are the following entities alleged to be in violation of section 337, and are the parties upon which the complaint is to be served:

The Brinkmann Corporation, 4215 McEwen Road, Dallas, TX 75244

W.C. Bradley Company, 1017 Front Avenue, Columbus, GA 31902

GHP Group, Incorporated, 8280 N. Austin Avenue, Morton Grove, IL 60053

Kamado Joe Company, 2865 N. Berkeley Lake Road, NW., Suite 6, Duluth, GA 30096

Outdoor Leisure Products, Incorporated, 5400 Doniphan Drive, Neosho, MO 64850

Rankam Group, 1618 W. Rosecrans Avenue, Gardena, CA 90249

Academy Ltd., d/b/a/Academy Sports + Outdoors, 1800 North Mason Road, Katy, TX 77449

HEB Grocery Company, LP, d/b/a H-E-B, 646 South Main Avenue, San Antonio, TX 78204

Kmart Corporation, 3333 Beverly Road, Hoffman Estates, IL 60179

Sears Brands Management Corporation, 3333 Beverly Road, Hoffman Estates, IL 60179

Sears Holdings Corporation, 3333 Beverly Road, Hoffman Estates, IL 60179

Sears, Roebuck & Company, 3333 Beverly Road, Hoffman Estates, IL 60179

Tractor Supply Company, 200 Powell Place, Brentwood, TN 37027

Guangdong Canbo Electrical Co., Ltd., No. 268 Qixin Road, Xingtan, Shunde District, Foshan City, Guangdong Province, CHINA

Chant Kitchen Equipment (HK), Ltd., Suite 706, 7/F Rightful Centre 11-12, Tak Hing Street, Jordan, Kowloon, Hong Kong, CHINA

Dongguan Kingsun Enterprises Co., Ltd., Zone 2 Xicheng Industrial District, Shiyong Village, Hengli Town, Dongguan City, CHINA

Zhejiang Fudeer Electric Appliance Co., Ltd., No. 286, Kaifa Avenue, Taizhou Economic Development Zone, Zhejiang Province, CHINA

Ningbo Huige Outdoor Products Co., Ltd., Room 1406 Building #15, Huaxin International Business Center, Fenghua City, Zhejiang Province, CHINA

Keesung Manufacturing Co., Ltd., No. 88 Yu Wo Tou Road, Dong Chong Town, Panyu, Guangzhou 511475, CHINA

Ningbo Spring Communication Technologies Co. Ltd., No. 88 Qiming Road, Yingzhou Industrial Zone, Ningbo Zhejiang 315104, CHINA

Wuxi Joyray International Corporation, No. 12F, Chongan Building, 369 Jiefang We Road, Wuxi, Jiangsu, CHINA

(c) The Office of Unfair Import Investigations, U.S. International Trade Commission, 500 E Street SW., Suite 401, Washington, DC 20436; and

(3) For the investigation so instituted, the Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR. 201.16(e) and 210.13(a), such responses will be considered by the Commission if received not later than 20 days after the date of service by the Commission of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: September 20, 2013.
Lisa R. Barton,
Acting Secretary to the Commission.

[FR Doc. 2013-23413 Filed 9-25-13; 8:45 am]

BILLING CODE 7020-02-P